INTERNATIONAL TRADE COMMISSION

[Investigation No. 337-TA-1388]

Certain Cellular Base Station Communication Equipment, Components Thereof, and Products Containing Same; Notice of the Commission Determination Not To Review an Initial Determination Terminating the Entire Investigation Based on a License Agreement; Termination of Investigation

AGENCY: U.S. International Trade Commission.

ACTION: Notice.

SUMMARY: Notice is hereby given that the U.S. International Trade Commission (“Commission”) has determined not to review an initial determination (“ID”) (Order No. 59) of the presiding administrative law judge (“ALJ”) terminating the entire investigation based on a patent license agreement.

FOR FURTHER INFORMATION CONTACT: Jonathan Link, Esq., Office of the General Counsel, U.S. International Trade Commission, 500 E Street SW, Washington, DC 20436, telephone (202) 205-3103. Copies of non-confidential documents filed in connection with this investigation may be viewed on the Commission's electronic docket (EDIS) at https://edis.usitc.gov. For help accessing EDIS, please email EDIS3Help@usitc.gov. General information concerning the Commission may also be obtained by accessing its internet server at https://www.usitc.gov. Hearing-impaired persons are advised that information on this matter can be obtained by contacting the Commission's TDD terminal on (202) 205-1810.

SUPPLEMENTARY INFORMATION: The Commission instituted this investigation on January 25, 2024, based on a complaint filed by Motorola Mobility LLC (“Complainant”) of Chicago, Illinois. 89 FR 4993 (Jan. 25, 2024). The complaint alleges violations of section 337 of the Tariff Act of 1930, as amended, 19 U.S.C. 1337, in the importation into the United States, the sale for importation, or the sale within the United States after importation of certain cellular base station communication equipment, components thereof, and products containing same by reason of infringement of one or more of claims 11 and 14-20 of U.S. Patent No. 11,184,130 (“the '130 patent”); claims 11-20 of U.S. Patent No. 11,601,896 (“the '896 patent”); claims 1-10 and 12-15 of U.S. Patent No. 11,284,466 (“the '466 patent”); and claims 12-19 of U.S. Patent No. 10,869,234 (“the '234 patent”). Id. The Commission's notice of investigation named as respondents Ericsson AB of Stockholm, Sweden; Telefonaktiebolaget LM Ericsson of Stockholm, Sweden; and Ericsson Inc. of Plano, Texas (collectively “Ericsson”). Id. The Office of Unfair Import Investigations was also named as a party in this investigation. Id.

On June 28, 2024, the Commission determined not to review an initial determination (Order No. 14) granting Complainant's unopposed motion to terminate the investigation as to claims 4, 9, 14, and 19 of the '130 patent. Claims 4 and 9 were only asserted for purposes of meeting the domestic industry requirement. See Order No. 14 (June 5, 2024), unreviewed by Comm'n Notice (July 1, 2024).

On August 13, 2024, the Commission determined not to review an initial determination (Order No. 20) granting Complainant's unopposed motion to terminate the investigation as to claims 8, 10, 18, and 20 the '130 patent; claims 1-4, 9, 11-14, and 19 of the '896 patent; claims 1-2, 4-7, 9-10, 12-13, and 15-17 of the '466 patent; and claims 1-6, 9, 12-15, and 18 of the '234 patent. See Order No. 20 (July 18, 2024), unreviewed by Comm'n Notice (Aug. 14, 2024).

On September 26, 2024, the Commission determined not to review an initial determination (Order No. 34) granting Complainant's unopposed motion to terminate the investigation as to claims 7 and 17 of the '130 patent; claims 5-7 and 15-17 of the '896 patent; and claims 8, 10, 11, and 17 of the '234 patent. Claim 7 of the '130 patent, claims 5-7 of the '896 patent, and claims 8, 10, and 11 of the '234 patent were only asserted for purposes of meeting the domestic industry requirement. See Order No. 34 (Sept. 4, 2024), unreviewed by Comm'n Notice (Sept. 26, 2024).

On October 28, 2024, the Commission determined not to review an initial determination (Order No. 37) granting Complainant's unopposed motion to terminate the investigation as to the remaining asserted claims of the '466 patent. See Order No. 37 (Oct. 3, 2024), unreviewed by Comm'n Notice (Oct. 28, 2024).

On April 1, 2025, the Commission determined not to review an initial determination (Order No. 54), extending the target date for completion of the investigation to August 25, 2025. See Order No. 54 (Mar. 7, 2025), unreviewed by Comm'n Notice (April 1, 2025).

On April 2, 2025, the Commission determined to review and affirm in part an initial determination (Order No. 53) granting Complainant's unopposed motion for summary determination that the economic prong of the domestic industry requirement is satisfied. See Order No. 53 (Mar. 3, 2025); Comm'n Notice (Apr. 2, 2025).

On May 15, 2025, the Commission determined not to review an initial determination (Order No. 57), extending the target date for completion of the investigation to September 23, 2025. See Order No. 57 (Apr. 24, 2025), unreviewed by Comm'n Notice (May 15, 2025).

On April 29, 2025, Complainant and Ericsson filed a joint motion to terminate the investigation in its entirety based on a patent license settlement. On April 30, 2025, OUII filed a response supporting the motion.

On May 8, 2025, the ALJ issued the subject ID (Order No. 59), terminating the entire investigation based on a patent license agreement. No petitions for review of Order No. 59 were filed.

The Commission has determined not to review the subject ID. The investigation is terminated in its entirety.

The Commission vote for this determination took place on June 5, 2025.

The authority for the Commission's determination is contained in section 337 of the Tariff Act of 1930, as amended (19 U.S.C. 1337), and in Part 210 of the Commission's Rules of Practice and Procedure (19 CFR part 210).

By order of the Commission.
Issued: June 5, 2025.
Lisa Barton,
Secretary to the Commission.

[FR Doc. 2025-10535 Filed 6-10-25; 8:45 am]

BILLING CODE 7020-20-P